DEPARTMENT OF HOMELAND SECURITY

U.S. Customs and Border Protection

[Docket No. USCBP-2020-0033]

Commercial Customs Operations Advisory Committee (COAC)

AGENCY: U.S. Customs and Border Protection (CBP), Department of Homeland Security (DHS).

ACTION: Committee management; notice of Federal Advisory Committee Meeting.

SUMMARY: The Commercial Customs Operations Advisory Committee (COAC) will hold its quarterly meeting on Wednesday, July 15, 2020. The meeting will be open to the public via webinar only. There is no on-site, in-person option for this quarterly meeting.

DATES: The COAC will meet on Wednesday, July 15, 2020, from 1:00 p.m. to 5:00 p.m. EDT. Please note that the meeting may close early if the committee has completed its business. Comments must be submitted in writing no later than July 14, 2020.

ADDRESSES: The meeting will be held via webinar. The webinar link and conference number will be provided to all registrants by 10:00 a.m. EDT on July 15, 2020. For information on facilities or services for individuals with disabilities or to request special assistance at the meeting, contact Ms. Florence Constant-Gibson, Office of Trade Relations, U.S. Customs and Border Protection (CBP), at (202) 344-1440 as soon as possible.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Ms. Valarie M. Neuhart, Acting Executive Director and Designated Federal Officer at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate via webinar, please register online at https://teregistration.cbp.gov/index.asp?w=203 by 5:00 p.m. EDT on July 14, 2020. For members of the public who are pre-registered to attend the webinar and later need to cancel, please do so by July 14, 2020, utilizing the following link: https://teregistration.cbp.gov/cancel.asp?w=203.

Please feel free to share this information with other interested members of your organization or association.

To facilitate public participation, we are inviting public comment on the issues the committee will consider prior to the formulation of recommendations as listed in the Agenda section below.

Comments must be submitted in writing no later than July 14, 2020, and must be identified by Docket No. USCBP-2020-0033, and may be submitted by one (1) of the following methods:

• Federal eRulemaking Portal: http://www.regulations.gov. Follow the instructions for submitting comments.

• Email: tradeevents@cbp.dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2020-0033) for this action. Comments received will be posted without alteration at http://www.regulations.gov. Please do not submit personal information to this docket.

Docket: For access to the docket or to read background documents or comments, go to http://www.regulations.gov and search for Docket Number USCBP-2020-0033. To submit a comment, click the “Comment Now!” button located on the top-right hand side of the docket page.

There will be multiple public comment periods held during the meeting on July 15, 2020. Speakers are requested to limit their comments to two (2) minutes or less to facilitate greater participation. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Rapid Response Subcommittee will provide updates and recommendations from the Broker Exam Modernization Working Group and the United States—Mexico—Canada Agreement (USMCA) Working Group. The subcommittee will also discuss the COAC COVID-19 Recommendations and White Paper and the Executive Order on Regulatory Relief to Support Economic Recovery as well as announce the creation of a new Rapid Response Working Group that will focus on automotive certification requirements under USMCA.

2. The Intelligent Enforcement Subcommittee will provide updates and recommendations from the working groups under its jurisdiction for COAC's consideration. The Intellectual Property Rights (IPR) Working Group continues to work on a background paper on the issue of a Bad Actors list. The concept is related to information sharing—using existing data more effectively to identify bad actors, such as counterfeiters, based on information from both the trade and the U.S. Government. Through the subcommittee, CBP is creating another IPR working group to address industry feedback regarding the Combating Counterfeit & Pirated Goods Presidential Memorandum with plans for recommendations on these issues. The AD/CVD Working Group continues to discuss complex issues with pipe spools and trade remedies and plans to present recommendations on these issues. The Bond Working Group has continued discussions with CBP on bond amounts and requirements for Foreign Trade Zones and Pipeline Operators and plans to present recommendations on these issues. The Forced Labor Working Group will report on progress of its assessment of the current e-Allegations submissions mechanism (portal) and process for reporting forced labor violations and deliver an industry collaboration white paper and related recommendations.

3. The Secure Trade Lanes Subcommittee will provide updates on the four working groups currently operating under the subcommittee. The Trusted Trader Working Group will provide details on activities focusing on the Customs Trade Partnership Against Terrorism (CTPAT) trade compliance implementation, developing a methodology for managing program benefits, PGA (Partner Government Agency) engagement, and new forced labor requirements. The subcommittee will provide an update of the In-Bond Working Group's analysis of trade-specific pain points within the current In-Bond processes by mode and will make recommendations to improve the efficiency and effectiveness of the In-Bond regulations. The Export Modernization Working Group will provide updates on its progress in updating the export data elements and recommendations on changes to remove redundancy and promote efficiency of data submission in support of U.S. exports. The Remote and Autonomous Cargo Processing Working Group will provide updates on the use of image technology for trains crossing land borders and leveraging partnerships through the donations acceptance programs. Additionally, this working group will provide an update on the concept of a driver identification card for a more streamlined and efficient border crossing for non-Free and Secure Trade Lane (FAST) drivers.

4. The Next Generation Facilitation Subcommittee will provide an update on the progress of the Unified Entry Working Group which is moving towards an operational framework by analyzing specific pain points within the entry process. The Emerging Technologies Working Group will cover its assessment of various technologies that could be adapted for CBP and trade issues.

Meeting materials will be available by July 13, 2020, at: http://www.cbp.gov/trade/stakeholder-engagement/coac/coac-public-meetings.

Dated: June 17, 2020.
Valarie M. Neuhart,
Acting Executive Director, Office of Trade Relations.

[FR Doc. 2020-13368 Filed 6-19-20; 8:45 am]

BILLING CODE 9111-14-P